DEPARTMENT OF AGRICULTURE

Forest Service

Final Record of Decision for Shoshone National Forest Land Management Plan

AGENCY: Forest Service, USDA.

ACTION: Notice of plan approval for the Shoshone National Forest.

SUMMARY: Regional Forester Daniel J. Jiron signed the final Record of Decision (ROD) for the Shoshone National Forest revised Land Management Plan (Plan) on May 6, 2015. The Final ROD documents the Regional Forester's decision and rationale for approving the revised plan.

DATES: The effective date of the plan is 30 calendar days after this notice. To view the final ROD, revised Plan, FEIS errata, and other related documents please visit the Shoshone National Forest Web site at http://www.fs.usda.gov/main/shoshone.

FOR FURTHER INFORMATION CONTACT: Further information about the Shoshone planning process can be obtained from Olga Troxel during normal office hours (weekdays 8:00 a.m. to 4:30 p.m. Mountain Time) at the Shoshone National Forest Supervisor's Office (Address: Shoshone National Forest, 808 Meadow Lane, Cody, WY 82414); Phone/voicemail: (307) 527-6241.

Individuals who use telecommunication devices for the deaf (TDD) may call the Federal Information Relay Service (FIRS) at 1-800-877-8339 between 8:00 a.m. and 8:00 p.m., Eastern Standard Time, Monday through Friday.

SUPPLEMENTARY INFORMATION: The revised plan describes desired conditions, objectives, standards, guidelines, and identifies lands suitable for various uses. The plan will guide project and activity decision making and all resource management activities on the Forest for the next 15 years. The plan is part of the long-range resource planning framework established by the Forest and Rangeland Renewable Resources Planning Act.

Dated: May 6, 2015.
Daniel J. Jiron,
Regional Forester, Rocky Mountain Region.

[FR Doc. 2015-11914 Filed 5-15-15; 8:45 am]

BILLING CODE 3411-15-P